DEPARTMENT OF COMMERCE

National Institute of Standards and Technology

Malcolm Baldrige National Quality Award Board of Overseers

AGENCY: National Institute of Standards and Technology, Department of Commerce.

ACTION: Notice of open meeting.

SUMMARY: The Board of Overseers of the Malcolm Baldrige National Quality Award (Board of Overseers) will meet in open session on Wednesday, December 12, 2012. The purpose of this meeting is to discuss and review information received from the National Institute of Standards and Technology and from the Chair of the Judges' Panel of the Malcolm Baldrige National Quality Award. The agenda will include: Report from the Judges' Panel, Baldrige Performance Excellence Program (BPEP) Update, Baldrige Program Business Plan Status Report, Baldrige Performance Excellence Criteria Changes for 2013, and Recommendations for the NIST Director.

DATES: The meeting will convene Wednesday, December 12, 2012, at 8:30 a.m. Eastern Time and adjourn at 3:00 p.m. Eastern Time on Wednesday, December 12, 2012.

ADDRESSES: The meeting will be held at the National Institute of Standards and Technology, 100 Bureau Drive, Gaithersburg, Maryland 20899. Please note admittance instructions under the SUPPLEMENTARY INFORMATION section of this notice.

FOR FURTHER INFORMATION CONTACT: Dr. Harry Hertz, Director, Baldrige Performance Excellence Program, National Institute of Standards and Technology, 100 Bureau Drive, Mail Stop 1020, Gaithersburg, Maryland 20899-1020, telephone number (301) 975-2361, or by email at: harry.hertz@nist.gov.

SUPPLEMENTARY INFORMATION:

Authority: 15 U.S.C. 3711a(d)(2)(B) and the Federal Advisory Committee Act, as amended, 5 U.S.C. App.

Pursuant to the Federal Advisory Committee Act, as amended, 5 U.S.C. App., the Board of Overseers will meet in open session on Wednesday, December 12, 2012. The Board of Overseers is composed of 12 members prominent in the fields of quality, innovation, and performance management and appointed by the Secretary of Commerce, assembled to advise the Secretary of Commerce on the conduct of the Malcolm Baldrige National Quality Award. The agenda will include: Report from the Judges' Panel, Baldrige Performance Excellence Program Update, Baldrige Program Business Plan Status Report, Baldrige Performance Excellence Criteria Changes for 2013, and Recommendations for the NIST Director.

Individuals and representatives of organizations who would like to offer comments and suggestions related to the Board's affairs are invited to request a place on the agenda. On December 12, 2012 approximately one-half hour will be reserved in the afternoon for public comments, and speaking times will be assigned on a first-come, first-served basis. The amount of time per speaker will be determined by the number of requests received, but is likely to be about 3 minutes each. The exact time for public comments will be included in the final agenda that will be posted on the Baldrige Web site at http://www.nist.gov/baldrige/community/overseers.cfm. Questions from the public will not be considered during this period. Speakers who wish to expand upon their oral statements, those who had wished to speak, but could not be accommodated on the agenda, and those who were unable to attend in person are invited to submit written statements to the Baldrige Performance Excellence Program, NIST, 100 Bureau Drive, Mail Stop 1020, Gaithersburg, Maryland 20899-1020, via fax at 301-975-4967 or electronically by email to nancy.young@nist.gov

All visitors to the National Institute of Standards and Technology site will have to pre-register to be admitted. Please submit your name, time of arrival, email address and phone number to Nancy Young no later than Wednesday, December 5, 2012, and she will provide you with instructions for admittance. Non-U.S. citizens must also submit their passport number, country of citizenship, title, employer/sponsor, address and telephone. Ms. Young's email address is nancy.young@nist.gov and her phone number is (301) 975-2361.

Dated: November 15, 2012.
Phillip Singerman,
Associate Director for Innovation & Industry Services.

[FR Doc. 2012-28293 Filed 11-20-12; 8:45 am]

BILLING CODE 3510-13-P